DEPARTMENT OF DEFENSE

GENERAL SERVICES ADMINISTRATION

NATIONAL AERONAUTICS AND SPACE ADMINISTRATION

48 CFR Parts 8, 33, and 52

[FAC 2005-10; Item VII; Docket 2006-0021]

Federal Acquisition Regulation; Technical Amendments

AGENCIES: Department of Defense (DoD), General Services Administration (GSA), and National Aeronautics and Space Administration (NASA).

ACTION: Final rule.

SUMMARY: This document amends the Federal Acquisition Regulation (FAR) to make editorial changes.

DATES: Effective Date: June 28, 2006.

FOR FURTHER INFORMATION CONTACT The FAR Secretariat, Room 4035, GS Building, Washington, DC, 20405, (202) 501-4755, for information pertaining to status or publication schedules. Please cite FAC 2005-10, Technical Amendments.

SUPPLEMENTARY INFORMATION:

List of Subjects in 48 CFR Parts 8, 33, and 52

Government procurement.

Dated: June 20, 2006.
Ralph De Stefano,
Director, Contract Policy Division.

Therefore, DoD, GSA, and NASA amend 48 CFR parts 8, 33, and 52 as set forth below:

1. The authority citation for 48 CFR parts 8, 33, and 52 continues to read as follows:

Authority: 40 U.S.C. 121(c); 10 U.S.C. chapter 137; and 42 U.S.C. 2473(c).

PART 8—REQUIRED SOURCES OF SUPPLIES AND SERVICES

2. Revise section 8.714(a)(1) and (2) to read as follows:

8.714 Communications with the central nonprofit agencies and the Committee.

(a) * * *

(1) National Industries for the Blind, 1310 Braddock Place, Alexandria, VA 22314-1691, (703) 310-0500; and

(2) NISH, 8401 Old Courthouse Road, Vienna, VA 22182, (571) 226-4660.

PART 33—PROTESTS, DISPUTES, AND APPEALS

33.102 [Amended]

3. Amend section 33.102 by removing from the end of paragraph (b)(1) the word “and”; and by removing the period from the end of paragraph (b)(2) and adding “; and” in its place.

PART 52—SOLICITATION PROVISIONS AND CONTRACT CLAUSES

4. Amend section 52.208-9 by revising the date of the clause and paragraphs (c)(1) and (2) to read as follows:

52.208-9 Contractor Use of Mandatory Sources of Supply or Services.

CONTRACTOR USE OF MANDATORY SOURCES OF SUPPLY OR SERVICES (JUN 2006)

(c) * * *

(1) National Industries for the Blind, 1310 Braddock Place, Alexandria, VA 22314-1691, (703) 310-0500; and

(2) NISH, 8401 Old Courthouse Road, Vienna, VA 22182, (571) 226-4660.

(End of clause)

5. Amend section 52.212-3 by revising the date of the clause; and removing from the heading of paragraph (h) “Executive Order 12549” and adding “Executive Order 12689” in its place. The revised text reads as follows:

52.212-3 Offeror Representations and Certifications—Commercial Items.

OFFEROR REPRESENTATIONS AND CERTIFICATIONS—COMMERCIAL ITEMS (JUN 2006)

6. Amend section 52.225-11 by revising the date of the clause; and removing from paragraph (b)(2) the comma after “or” in the first line. The revised text reads as follows:

52.225-11 Buy American Act—Construction Materials under Trade Agreements.

BUY AMERICAN ACT—CONSTRUCTION MATERIALS UNDER TRADE AGREEMENTS (JUN 2006)

[FR Doc. 06-5705 Filed 6-27-06; 8:45 am]

BILLING CODE 6820-EP-S